INTERNATIONAL TRADE COMMISSION

[Investigation No. 337-TA-1047]

Certain Semiconductor Devices and Consumer Audiovisual Products Containing the Same Institution of Investigation

AGENCY: U.S. International Trade Commission.

ACTION: Notice.

SUMMARY: Notice is hereby given that a complaint was filed with the U.S. International Trade Commission on March 7, 2017, under section 337 of the Tariff Act of 1930, as amended, on behalf of Broadcom Corporation of Irvine, California. A letter supplementing the complaint was filed on March 22, 2017. The complaint alleges violations of section 337 based upon the importation into the United States, the sale for importation, and the sale within the United States after importation of certain semiconductor devices and consumer audiovisual products containing the same by reason of infringement of certain claims of U.S. Patent No. 8,284,844 (“the '844 patent”); U.S. Patent No. 7,590,059 (“the '059 patent”); U.S. Patent No. 8,068,171 (“the '171 patent”); U.S. Patent No. 7,310,104 (“the '104 patent”); and U.S. Patent No. 7,342,967 (“the '967 patent”). The complaint further alleges that an industry in the United States exists as required by the applicable Federal Statute.

The complainant requests that the Commission institute an investigation and, after the investigation, issue a limited exclusion order and cease and desist orders.

ADDRESSES: The complaint, except for any confidential information contained therein, is available for inspection during official business hours (8:45 a.m. to 5:15 p.m.) in the Office of the Secretary, U.S. International Trade Commission, 500 E Street SW., Room 112, Washington, DC 20436, telephone (202) 205-2000. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov. The public record for this investigation may be viewed on the Commission's electronic docket (EDIS) at https://edis.usitc.gov.

FOR FURTHER INFORMATION CONTACT: The Office of the Secretary, Docket Services Division, U.S. International Trade Commission, telephone (202) 205-1802.

Authority: The authority for institution of this investigation is contained in section 337 of the Tariff Act of 1930, as amended, 19 U.S.C. 1337, and in section 210.10 of the Commission's Rules of Practice and Procedure, 19 CFR. 210.10 (2017).

Scope of Investigation: Having considered the complaint, the U.S. International Trade Commission, on April 6, 2017, ordered that—

(1) Pursuant to subsection (b) of section 337 of the Tariff Act of 1930, as amended, an investigation be instituted to determine whether there is a violation of subsection (a)(1)(B) of section 337 in the importation into the United States, the sale for importation, or the sale within the United States after importation of certain semiconductor devices and consumer audiovisual products containing the same by reason of infringement of one or more of claims 1-14 of the '844 patent; claims 11-30 of the '059 patent; claims 1-5 and 7 of the '171 patent; claims 1, 10, 11, 16, 17 and 22 of the '104 patent; and claims 1-4 of the '967 patent, and whether an industry in the United States exists as required by subsection (a)(2) of section 337;

(2) For the purpose of the investigation so instituted, the following are hereby named as parties upon which this notice of investigation shall be served:

(a) The complainant is:

Broadcom Corporation, 5300 California Avenue, Irvine, CA 92617

(b) The respondents are the following entities alleged to be in violation of section 337, and are the parties upon which the complaint is to be served:

MediaTek Inc., No. 1, Dusing 1st Road, Hsinchu Science Park, Hsinchu City 30078, Taiwan

MediaTek USA Inc., 2840 Junction Avenue, San Jose, CA 95134

MStar Semiconductor Inc., 4F-1, No. 26, Tai-Yuan Street, ChuPei Hsinchu Hsien 302, Taiwan

Sigma Designs, Inc., 47467 Fremont Boulevard, Fremont, CA 94538

LG Electronics Inc., Twin Tower 128, Seoul 150-721, Republic of Korea

LG Electronics U.S.A., Inc., 1000 Sylvan Avenue, Englewood Cliffs, NJ 07632

Funai Electric Company, Ltd., 7-7-1 Nakagaito, Daito City, Osaka 574-0013, Japan

Funai Corporation, Inc., 201 Route 17 North, Suite 903, Rutherford, NJ 07070

P&F USA, Inc., 2555 Marconi Drive, Suite 300, Alpharetta, GA 30005

Vizio, Inc., 39 Tesla, Irvine, CA 92618

(3) For the investigation so instituted, the Chief Administrative Law Judge, U.S. International Trade Commission, shall designate the presiding Administrative Law Judge.

The Office of Unfair Import Investigations will not participate as a party in this investigation.

Responses to the complaint and the notice of investigation must be submitted by the named respondents in accordance with section 210.13 of the Commission's Rules of Practice and Procedure, 19 CFR 210.13. Pursuant to 19 CFR. 201.16(e) and 210.13(a), such responses will be considered by the Commission if received not later than 20 days after the date of service by the Commission of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: April 6, 2017.
Lisa R. Barton,
Secretary to the Commission.

[FR Doc. 2017-07322 Filed 4-11-17; 8:45 am]

BILLING CODE 7020-02-P